DEPARTMENT OF HEALTH AND HUMAN SERVICES

Office of the National Coordinator for Health Information Technology

American Health Information Community Confidentiality, Privacy, and Security Workgroup Meeting

ACTION: Announcement of meeting.

SUMMARY: This notice announces the eighth meeting of the American Health Information Community Confidentiality, Privacy, and Security Workgroup in accordance with the Federal Advisory Committee Act (Pub. L. 92-463, 5 U.S.C., App.)

DATES: March 15, 2007, from 10:30 a.m. to 4:30 p.m. Eastern Time.

ADDRESSES: Hubert H. Humphrey building (200 Independence Avenue, SW., Washington, DC 20201), Conference Room 705A (please bring photo ID for entry to a Federal building).

FOR FURTHER INFORMATION CONTACT: http://www.hhs.gov/healthit/ahic/confidentiality/.

SUPPLEMENTARY INFORMATION: The Workgroup Members will discuss identity proofing issues and priorities.

The meeting will be available via Web cast at http://www.hhs.gov/healthit/ahic/cps_instruct.html.

Dated: February 23, 2007.
Judith Sparrow,
Director, American Health Information Community, Office of Programs and Coordination, Office of the National Coordinator for Health Information Technology.

[FR Doc. 07-985 Filed 3-2-07; 8:45 am]

BILLING CODE 4150-24-M